Title 3—

The President

Executive Order 13693 of March 19, 2015

Planning for Federal Sustainability in the Next Decade

By the authority vested in me as President by the Constitution and the laws of the United States of America, and in order to maintain Federal leadership in sustainability and greenhouse gas emission reductions, it is hereby ordered as follows:

Section 1. Policy. Executive departments and agencies (agencies) have been among our Nation's leaders as the United States works to build a clean energy economy that will sustain our prosperity and the health of our people and our environment for generations to come. Federal leadership in energy, environmental water, fleet, buildings, and acquisition management will continue to drive national greenhouse gas reductions and support preparations for the impacts of climate change. Through a combination of more efficient Federal operations such as those outlined in this Executive Order (order), we have the opportunity to reduce agency direct greenhouse gas emissions by at least 40 percent over the next decade while at the same time fostering innovation, reducing spending, and strengthening the communities in which our Federal facilities operate.

It therefore continues to be the policy of the United States that agencies shall increase efficiency and improve their environmental performance. Improved environmental performance will help us protect our planet for future generations and save taxpayer dollars through avoided energy costs and increased efficiency, while also making Federal facilities more resilient. To improve environmental performance and Federal sustainability, priority should first be placed on reducing energy use and cost, then on finding renewable or alternative energy solutions. Pursuing clean sources of energy will improve energy and water security, while ensuring that Federal facilities will continue to meet mission requirements and lead by example. Employing this strategy for the next decade calls for expanded and updated Federal environmental performance goals with a clear overarching objective of reducing greenhouse gas emissions across Federal operations and the Federal supply chain.

Sec. 2. Agency Greenhouse Gas Emission Reductions. In implementing the policy set forth in section 1 of this order, the head of each agency shall, within 90 days of the date of this order, propose to the Chair of the Council on Environmental Quality (CEQ) and the Director of the Office of Management and Budget (OMB) percentage reduction targets for agency-wide reductions of scope 1 and 2 and scope 3 greenhouse gas emissions in absolute terms by the end of fiscal year 2025 relative to a fiscal year 2008 baseline. Where appropriate, the target shall exclude direct emissions from excluded vehicles and equipment and from electric power produced and sold commercially to other parties as the primary business of the agency. The proposed targets shall be subject to the review and approval of the Chair of CEQ in coordination with the Director of OMB under section 4(b) of this order.

Sec. 3. Sustainability Goals for Agencies. In implementing the policy set forth in section 1 of this order and to achieve the goals of section 2 of this order, the head of each agency shall, where life-cycle cost-effective, beginning in fiscal year 2016, unless otherwise specified:

(a) promote building energy conservation, efficiency, and management by:

(i) reducing agency building energy intensity measured in British thermal units per gross square foot by 2.5 percent annually through the end of fiscal year 2025, relative to the baseline of the agency's building energy use in fiscal year 2015 and taking into account agency progress to date, except where revised pursuant to section 9(f) of this order, by implementing efficiency measures based on and using practices such as:

(A) using remote building energy performance assessment auditing technology;

(B) participating in demand management programs;

(C) ensuring that monthly performance data is entered into the Environmental Protection Agency (EPA) ENERGY STAR Portfolio Manager for covered buildings;

(D) incorporating, where feasible, the consensus-based, industry standard Green Button data access system into reporting, data analytics, and automation processes;

(E) implementing space utilization and optimization practices and policies;

(F) identifying opportunities to transition test-bed technologies to achieve the goals of this section; and

(G) conforming, where feasible, to city energy performance benchmarking and reporting requirements; and

(ii) improving data center energy efficiency at agency facilities by:

(A) ensuring the agency chief information officer promotes data center energy optimization, efficiency, and performance;

(B) installing and monitoring advanced energy meters in all data centers by fiscal year 2018; and

(C) establishing a power usage effectiveness target of 1.2 to 1.4 for new data centers and less than 1.5 for existing data centers;

(b) ensure that at a minimum, the following percentage of the total amount of building electric energy and thermal energy shall be clean energy, accounted for by renewable electric energy and alternative energy:

(i) not less than 10 percent in fiscal years 2016 and 2017;

(ii) not less than 13 percent in fiscal years 2018 and 2019;

(iii) not less than 16 percent in fiscal years 2020 and 2021;

(iv) not less than 20 percent in fiscal years 2022 and 2023; and

(v) not less than 25 percent by fiscal year 2025 and each year thereafter;

(c) ensure that the percentage of the total amount of building electric energy consumed by the agency that is renewable electric energy is:

(i) not less than 10 percent in fiscal years 2016 and 2017;

(ii) not less than 15 percent in fiscal years 2018 and 2019;

(iii) not less than 20 percent in fiscal years 2020 and 2021;

(iv) not less than 25 percent in fiscal years 2022 and 2023; and

(v) not less than 30 percent by fiscal year 2025 and each year thereafter;

(d) include in the renewable electric energy portion of the clean energy target established in subsection (b) of this section renewable electric energy as defined in section 19(v) of this order and associated with the following actions, which are listed in order of priority:

(i) installing agency-funded renewable energy on site at Federal facilities and retaining corresponding renewable energy certificates (RECs) or obtaining equal value replacement RECs;

(ii) contracting for the purchase of energy that includes the installation of renewable energy on site at a Federal facility or off site from a Federal facility and the retention of corresponding RECs or obtaining equal value replacement RECs for the term of the contract;

(iii) purchasing electricity and corresponding RECs or obtaining equal value replacement RECs; and

(iv) purchasing RECs;

(e) include in the alternative energy portion of the clean energy target established in subsection (b) of this section alternative energy as defined in section 19(c) of this order and associated with the following actions, where feasible:

(i) installing thermal renewable energy on site at Federal facilities and retaining corresponding renewable attributes or obtaining equal value replacement RECs where applicable;

(ii) installing combined heat and power processes on site at Federal facilities;

(iii) installing fuel cell energy systems on site at Federal facilities;

(iv) utilizing energy from new small modular nuclear reactor technologies;

(v) utilizing energy from a new project that includes the active capture and storage of carbon dioxide emissions associated with energy generation;

(vi) implementing other alternative energy approaches that advance the policy set forth in section 1 and achieve the goals of section 2 of this order and are in accord with any sustainability, environmental performance, and other instructions or guidance established pursuant to sections 4(e) and 5(a) of this order; and

(vii) including in the Department of Defense (DOD) accounting for alternative energy for this subsection, fulfillment of the requirements for DOD goals established under section 2852 of the National Defense Authorization Act for Fiscal Year 2007 as amended by section 2842 of the National Defense Authorization Act for Fiscal Year 2010;

(f) improve agency water use efficiency and management, including stormwater management by:

(i) reducing agency potable water consumption intensity measured in gallons per gross square foot by 36 percent by fiscal year 2025 through reductions of 2 percent annually through fiscal year 2025 relative to a baseline of the agency's water consumption in fiscal year 2007;

(ii) installing water meters and collecting and utilizing building and facility water balance data to improve water conservation and management;

(iii) reducing agency industrial, landscaping, and agricultural (ILA) water consumption measured in gallons by 2 percent annually through fiscal year 2025 relative to a baseline of the agency's ILA water consumption in fiscal year 2010; and

(iv) installing appropriate green infrastructure features on federally owned property to help with stormwater and wastewater management;

(g) if the agency operates a fleet of at least 20 motor vehicles, improve agency fleet and vehicle efficiency and management by:

(i) determining, as part of the planning requirements of section 14 of this order, the optimum fleet inventory with emphasis placed on eliminating unnecessary or non-essential vehicles from the agency's fleet inventory;

(ii) taking actions that reduce fleet-wide per-mile greenhouse gas emissions from agency fleet vehicles, relative to a baseline of emissions in fiscal year 2014, to achieve the following percentage reductions:

(A) not less than 4 percent by the end of fiscal year 2017;

(B) not less than 15 percent by the end of fiscal year 2021; and

(C) not less than 30 percent by the end of fiscal year 2025;

(iii) collecting and utilizing as a fleet efficiency management tool, as soon as practicable but not later than 2 years after the date of this order, agency fleet operational data through deployment of vehicle telematics at a vehicle asset level for all new passenger and light duty vehicle acquisitions and for medium duty vehicles where appropriate;

(iv) ensuring that agency annual asset-level fleet data is properly and accurately accounted for in a formal agency Fleet Management System and any relevant data is submitted to the Federal Automotive Statistical Tool reporting database, the Federal Motor Vehicle Registration System, and the Fleet Sustainability Dashboard (FleetDASH) system;

(v) planning for agency fleet composition such that by December 31, 2020, zero emission vehicles or plug-in hybrid vehicles account for 20 percent of all new agency passenger vehicle acquisitions and by December 31, 2025, zero emission vehicles or plug-in hybrid vehicles account for 50 percent of all new agency passenger vehicles and including, where practicable, acquisition of such vehicles in other vehicle classes and counting double credit towards the targets in this section for such acquisitions; and

(vi) planning for appropriate charging or refueling infrastructure or other power storage technologies for zero emission vehicles or plug-in hybrid vehicles and opportunities for ancillary services to support vehicle-to-grid technology;

(h) improve building efficiency, performance, and management by:

(i) ensuring, beginning in fiscal year 2020 and thereafter, that all new construction of Federal buildings greater than 5,000 gross square feet that enters the planning process is designed to achieve energy net-zero and, where feasible, water or waste net-zero by fiscal year 2030;

(ii) identifying, beginning in June of 2016, as part of the planning requirements of section 14 of this order, a percentage of at least 15 percent, by number or total square footage, of the agency's existing buildings above 5,000 gross square feet that will, by fiscal year 2025, comply with the revised Guiding Principles for Federal Leadership in High Performance and Sustainable Buildings (Guiding Principles), developed pursuant to section 4 of this order, and making annual progress toward 100 percent conformance with the Guiding Principles for its building inventory;

(iii) identifying, as part of the planning requirements of section 14 of this order, a percentage of the agency's existing buildings above 5,000 gross square feet intended to be energy, waste, or water net-zero buildings by fiscal year 2025 and implementing actions that will allow those buildings to meet that target;

(iv) including in all new agency lease solicitations over 10,000 rentable square feet:

(A) criteria for energy efficiency either as a required performance specification or as a source selection evaluation factor in best-value tradeoff procurements; and

(B) requirements for building lessor disclosure of carbon emission or energy consumption data for that portion of the building occupied by the agency that may be provided by the lessor through submetering or estimation from pro-rated occupancy data, whichever is more cost-effective;

(v) reporting building energy, beginning in fiscal year 2016 as part of the agency scope 3 greenhouse gas emissions for newly solicited leases over 10,000 rentable square feet;

(vi) including in the planning for new buildings or leases cost-effective strategies to optimize sustainable space usage and consideration of existing community transportation planning and infrastructure, including access to public transit;

(vii) ensuring that all new construction, major renovation, repair, and alteration of agency buildings includes appropriate design and deployment of fleet charging infrastructure; and

(viii) including the incorporation of climate-resilient design and management elements into the operation, repair, and renovation of existing agency buildings and the design of new agency buildings;

(i) promote sustainable acquisition and procurement by ensuring that each of the following environmental performance and sustainability factors are included to the maximum extent practicable for all applicable procurements in the planning, award, and execution phases of the acquisition by:

(i) meeting statutory mandates that require purchase preference for:

(A) recycled content products designated by EPA;

(B) energy and water efficient products and services, such as ENERGY STAR qualified and Federal Energy Management Program (FEMP)-designated products, identified by EPA and the Department of Energy (DOE); and

(C) BioPreferred and biobased designated products designated by the United States Department of Agriculture;

(ii) purchasing sustainable products and services identified by EPA programs including:

(A) Significant New Alternative Policy (SNAP) chemicals or other alternatives to ozone-depleting substances and high global warming potential hydrofluorocarbons, where feasible, as identified by SNAP;

(B) WaterSense certified products and services (water efficient products);

(C) Safer Choice labeled products (chemically intensive products that contain safer ingredients); and

(D) SmartWay Transport partners and SmartWay products (fuel efficient products and services);

(iii) purchasing environmentally preferable products or services that:

(A) meet or exceed specifications, standards, or labels recommended by EPA that have been determined to assist agencies in meeting their needs and further advance sustainable procurement goals of this order; or

(B) meet environmental performance criteria developed or adopted by voluntary consensus standards bodies consistent with section 12(d) of the National Technology Transfer and Advancement Act of 1995 (Public Law 104-113) and OMB Circular A-119;

(iv) acting, as part of the implementation of planning requirements of section 14 of this order, until an agency achieves at least 95 percent compliance with the BioPreferred and biobased purchasing requirement in paragraph (i) of this subsection, to:

(A) establish an annual target for the number of contracts to be awarded with BioPreferred and biobased criteria and dollar value of BioPreferred and biobased products to be delivered and reported under those contracts in the following fiscal year. To establish this target, agencies shall consider the dollar value of designated BioPreferred and biobased products reported in previous years, the specifications reviewed and revised for inclusion of BioPreferred and biobased products, and the number of applicable product and service contracts to be awarded, including construction, operations and maintenance, food services, vehicle maintenance, and janitorial services; and

(B) ensure contractors submit timely annual reports of their BioPreferred and biobased purchases; and

(v) reducing copier and printing paper use and acquiring uncoated printing and writing paper containing at least 30 percent postconsumer recycled content or higher as designated by future instruction under section 4(e) of this order;

(j) advance waste prevention and pollution prevention by:

(i) reporting in accordance with the requirements of sections 301 through 313 of the Emergency Planning and Community Right-to-Know Act of 1986 (42 U.S.C. 11001 through 11023);

(ii) diverting at least 50 percent of non-hazardous solid waste, including food and compostable material but not construction and demolition materials and debris, annually, and pursuing opportunities for net-zero waste or additional diversion opportunities;

(iii) diverting at least 50 percent of non-hazardous construction and demolition materials and debris; and

(iv) reducing or minimizing the quantity of toxic and hazardous chemicals and materials acquired, used, or disposed of, particularly where such reduction will assist the agency in pursuing agency greenhouse gas emission reduction targets established in section 2 of this order;

(k) implement performance contracts for Federal buildings by:

(i) utilizing performance contracting as an important tool to help meet identified energy efficiency and management goals while deploying life-cycle cost-effective energy efficiency and clean energy technology and water conservation measures;

(ii) fulfilling existing agency performance contracting commitments towards the goal of $4 billion in Federal performance-based contracts by the end of calendar year 2016; and

(iii) providing annual agency targets for performance contracting for energy savings to be implemented in fiscal year 2017 and annually thereafter as part of the planning requirements of section 14 of this order;

(l) promote electronics stewardship by establishing, measuring, and reporting by:

(i) ensuring procurement preference for environmentally sustainable electronic products as established in subsection (i) of this section;

(ii) establishing and implementing policies to enable power management, duplex printing, and other energy-efficient or environmentally sustainable features on all eligible agency electronic products; and

(iii) employing environmentally sound practices with respect to the agency's disposition of all agency excess or surplus electronic products.

Sec. 4. Duties of the Chair of the Council on Environmental Quality. In implementing the policy set forth in section 1 of this order, the Chair of CEQ shall:

(a) in coordination with the Director of OMB, establish a Federal Interagency Sustainability Steering Committee (Steering Committee) that shall advise the Director of OMB and the Chair of CEQ on the performance of agency responsibilities under sections 2 and 3 of this order and shall include the Federal Chief Sustainability Officer referenced in section 6 of this order and agency Chief Sustainability Officers designated under sections 7 and 8 of this order;

(b) in coordination with the Director of OMB review and approve agency-wide scope 1 and 2 and scope 3 greenhouse gas emissions reduction targets developed under section 2 of this order;

(c) in coordination with the Director of OMB, prepare streamlined reporting metrics to determine each agency's progress under sections 2 and 3 of this order;

(d) review and evaluate each agency's Plan prepared under section 14 of this order;

(e) within 45 days of the date of this order and thereafter as necessary, after consultation with the Director of OMB, issue implementing instructions or other guidance to direct agency implementation of this order, other than instructions within the authority of the Director of OMB to issue under section 5 of this order;

(f) within 150 days of the date of this order, prepare and issue revised Guiding Principles for both new and existing Federal buildings including consideration of climate change resilience and employee and visitor wellness;

(g) revise, as necessary and in coordination with the Director of OMB, existing CEQ guidance and implementing instructions on Sustainable Locations for Federal Facilities of September 15, 2011, Sustainable Practices for Designed Landscapes of October 31, 2011, as supplemented on October 22, 2014, Federal Greenhouse Gas Accounting and Reporting Guidance [Revision 1] of June 4, 2012, and Federal Agency Implementation of Water Efficiency and Management Provisions of Executive Order 13514 of July 10, 2013;

(h) within 150 days of the date of this order, prepare and issue guidance to assist agencies in the implementation of section 13 of this order;

(i) identify annually, based on total contract spending in the previous fiscal year as reported in the Federal Procurement Data System, the seven largest Federal procuring agencies responsible for implementation of section 15(b) of this order;

(j) administer a Presidential leadership award program to recognize exceptional and outstanding performance and excellence in agency efforts to implement this order; and

(k) establish and disband, as appropriate, temporary interagency working groups to provide recommendations to the Chair of CEQ associated with the goals of this order, including: grid-based green power; data quality, collection, and reporting; greenhouse gas emissions associated with the transportation of Federal freight and cargo; sustainability considerations in resilience planning; agency supply chain climate vulnerability; recycled content paper; green infrastructure; and carbon uptake accounting and wood products.

Sec. 5. Duties of the Director of the Office of Management and Budget. In implementing the policy set forth in section 1 of this order, the Director of OMB shall:

(a) issue, after consultation with the Chair of CEQ, instructions to the heads of agencies concerning periodic performance evaluation of agency implementation of this order, including consideration of the results from section 4(c) of this order;

(b) prepare scorecards providing periodic evaluation of Principal Agency performance in implementing this order and publish scorecard results on a publicly available Web site; and

(c) review and approve each agency's Plan prepared under section 14 of this order.

Sec. 6. Duties of the Federal Chief Sustainability Officer. Henceforth, the Federal Environmental Executive is reestablished as the Federal Chief Sustainability Officer and the Office of the Federal Environmental Executive is reestablished as the Office of the Chief Sustainability Officer, for which the Environmental Protection Agency shall provide funding and administrative support and that shall be maintained at CEQ. In implementing the policy set forth in section 1 of this order, the Federal Chief Sustainability Officer shall:

(a) monitor progress and advise the Chair of CEQ on agency goals in sections 2 and 3 of this order;

(b) chair, convene, and preside at quarterly meetings; determine the agenda; and direct the work of the Steering Committee;

(c) lead the development of programs and policies to assist agencies in implementing the goals of this order in coordination with DOE, EPA, the General Services Administration (GSA), and other agencies as appropriate;

(d) coordinate and provide direction to relevant existing workgroups through quarterly meetings to ensure that opportunities for improvement in implementation of this order are identified and addressed; and

(e) advise the Chair of CEQ on the implementation of this order.

Sec. 7. Duties of Principal Agencies. To ensure successful implementation of the policy established in section 1 of this order, the head of each Principal Agency shall:

(a) designate, within 45 days of the date of this order, an agency Chief Sustainability Officer, who shall be a senior civilian officer of the United States, compensated annually in an amount at or above the amount payable at level IV of the Executive Schedule, and report such designation to the Director of OMB and the Chair of CEQ;

(b) assign the designated official the authority to represent the agency on the Steering Committee established under section 4 of this order and perform such other duties relating to the implementation of this order within the agency as the head of the agency deems appropriate;

(c) prepare and distribute internally, where appropriate, performance evaluations of agency implementation of this order that reflect the contribution of agency services, components, bureaus, and operating divisions to the goals of this order;

(d) ensure, as soon as practicable after the date of this order, that leases and contracts entered into after the date of this order for lessor or contractor operation of Government-owned buildings or vehicles facilitate the agency's compliance with this order;

(e) implement opportunities to improve agency fleet sustainability, including vehicle acquisitions as established in section 3(g) of this order, waiver authority, and fleet data management practices, by revising agency fleet management review and approval procedures to include the Chief Sustainability Officers designated under this section and section 8 of this order;

(f) consider the development of policies to promote sustainable commuting and work-related travel practices for Federal employees that foster workplace vehicle charging, encourage telecommuting, teleconferencing, and reward carpooling and the use of public transportation, where consistent with agency authority and Federal appropriations law;

(g) ensure regional agency actions consider and are consistent with, sustainability and climate preparedness priorities of States, local governments, and tribal communities where agency facilities are located;

(h) foster outstanding performance and excellence in agency efforts to implement this order through opportunities such as agency leadership award programs;

(i) continue implementation of formal Environmental Management Systems (EMS) where those systems have proven effective and deploy new EMSs where appropriate; and

(j) notwithstanding the limitations on implementation in section 17 of this order, apply, where feasible and appropriate, the strategies and plans to achieve the goals of this order in whole or in part with respect to fueling, operation, and management of tactical or emergency vehicles and to the activities and facilities of the agency that are not located within the United States.

Sec. 8. Duties of Contributing Agencies. Within 45 days of the date of this order, to ensure successful implementation of the policy established in section 1 of this order, the head of each contributing agency shall designate an agency Chief Sustainability Officer, who shall be a senior civilian officer of the United States, compensated annually in an amount at or above the amount payable at level IV of the Executive Schedule, and report such designation to the Director of OMB and the Chair of CEQ.

Sec. 9. Duties of the Agency Chief Sustainability Officers. The Chief Sustainability Officers designated under sections 7 and 8 of this order shall be responsible for:

(a) ensuring agency policies, plans, and strategies implemented to achieve the goals of this order consider the role of agency regional facilities and personnel and are integrated into agency permitting and environmental review policies, programs, and planning;

(b) developing and implementing an agency-wide strategic process that coordinates appropriate agency functions and programs to ensure that those functions and programs consider and address the goals of this order;

(c) reporting annually to the Chair of CEQ and Director of OMB a comprehensive inventory of progress towards the greenhouse gas emissions goals established in section 2 of this order;

(d) representing the agency on the Steering Committee;

(e) convening quarterly meetings of agency bureaus, commands, or operating divisions that are responsible for the implementation of strategies necessary to meet the goals of this order;

(f) representing the agency in any requests to the Chair of CEQ and Director of OMB to amend or normalize a baseline for goals established in this order due to change of greater than 5 percent as a result of agency space consolidation, a change in mission tempo, or improved data quality;

(g) providing plans, including the Plan prepared under section 14 of this order, reports, information, and assistance necessary to implement this order, to the Director of OMB, the Chair of CEQ, and the Federal Chief Sustainability Officer; and

(h) performing such other duties relating to the implementation of this order as the head of the agency deems appropriate.

Sec. 10. Regional Coordination. Within 180 days of the date of this order, each EPA and GSA Regional office shall in coordination with Federal Executive Boards established by the Presidential Memorandum of November 10, 1961 (The Need for Greater Coordination of Regional and Field Activities of the Government), DOD and other agencies as appropriate, convene regional interagency workgroups to identify and address:

(a) sustainable operations of Federal fleet vehicles, including identification and implementation of opportunities to use and share fueling infrastructure and logistical resources to support the adoption and use of alternative fuel vehicles, including E-85 compatible vehicles, zero emission and plug-in hybrid vehicles, and compressed natural gas powered vehicles;

(b) water resource management and drought response opportunities;

(c) climate change preparedness and resilience planning in coordination with State, local, and tribal communities; and

(d) opportunities for collective procurement of clean energy to satisfy energy demand for multiple agency buildings.

Sec. 11. Employee Education and Training. Within 180 days of the date of this order, the Office of Personnel Management, in coordination with DOE, GSA, EPA, and other agencies as appropriate, shall:

(a) consider the establishment of a dedicated Federal occupational series for sustainability professionals and relevant positions that directly impact the achievement of Federal sustainability goals and if appropriate, prepare and issue such occupational series; and

(b) initiate the inclusion of environmental sustainability and climate preparedness and resilience into Federal leadership and educational programs in courses and training, delivered through electronic learning, in classroom settings, and residential centers, particularly developmental training for Senior Executive Service and GS-15 personnel.

Sec. 12. Supporting the Federal Fleet. (a) GSA shall ensure that vehicles available to agencies for either lease or sale, at or below market cost, through its vehicle program include adequate variety and volume of alternative fuel vehicles, including zero emission and plug-in hybrid vehicles, to meet the fleet management goals of this order.

(b) DOE shall assist the United States Postal Service (USPS) in evaluating the best alternative and advanced fuel technologies for the USPS fleet and report on such progress annually as part of the planning requirements of section 14 of this order.

Sec. 13. Supporting Federal Facility Climate Preparedness and Resilience. The head of each agency shall, consistent with Executive Order 13653 of November 1, 2013, ensure that agency operations and facilities prepare for impacts of climate change as part of the planning requirements of section 14 of this order and consistent with planning required under section 5 of Executive Order 13653 by:

(a) identifying and addressing projected impacts of climate change on mission critical water, energy, communication, and transportation demands and considering those climate impacts in operational preparedness planning for major agency facilities and operations; and

(b) calculating the potential cost and risk to mission associated with agency operations that do not take into account the information collected in subsection (a) of this section and considering that cost in agency decision-making.

Sec. 14. Agency Strategic Sustainability Performance Plan. Beginning in June 2015, and continuing through fiscal year 2025, the head of each Principal Agency shall develop, implement, and annually update an integrated Strategic Sustainability Performance Plan (Plan) based on guidance prepared by the Chair of CEQ under section 4 of this order. Contributing agencies are encouraged to prepare a Plan but may limit content of the Plan to a summary of agency actions to meet the requirements of this order. Each Principal Agency Plan and update shall be provided to the Chair of CEQ and Director of OMB, shall be subject to approval by the Director under section 5 of this order, and shall be made publicly available on an agency Web site once approved.

Sec. 15. Supply Chain Greenhouse Gas Management. In implementing the greenhouse gas management policies in section 1 of this order and to better understand and manage the implications of Federal supply chain greenhouse gas emissions:

(a) the Chair of CEQ shall, within 30 days of the date of this order and annually thereafter, identify and publicly release an inventory of major Federal suppliers using publicly available Federal procurement information, including information as to whether the supplier has accounted for and publicly disclosed, during the previous calendar year, annual scope 1 and 2 greenhouse gas emission data and publicly disclosed a greenhouse gas emission reductions target (or targets) for 2015 or beyond; and

(b) the seven largest Federal procuring agencies shall each submit for consideration, in conjunction with the planning requirements of section 14 of this order, a plan to implement at least five new procurements annually in which the agency may include, as appropriate, contract requirements for vendors or evaluation criteria that consider contractor emissions and greenhouse gas emissions management practices. The plans submitted for consideration may include identification of evaluation criteria, performance period criteria, and contract clauses that will encourage suppliers to manage and reduce greenhouse gas emissions, and shall be implemented as soon as practicable after any relevant administrative requirements have been met.

Sec. 16. Revocations and Conforming Provisions. (a) Pursuant to section 742(b) of Public Law 111-117, I have determined that this order will achieve equal or better environmental or energy efficiency results than Executive Order 13423. Therefore, Executive Order 13423 of January 24, 2007, is revoked.

(b) Executive Order 13514 of October 5, 2009; Presidential Memorandum of December 2, 2011 (Implementation of Energy Savings Projects and Performance-Based Contracting for Energy Savings); section 1 of Presidential Memorandum of February 21, 2012 (Driving Innovation and Creating Jobs in Rural America through Biobased and Sustainable Product Procurement); and Presidential Memorandum of December 5, 2013 (Federal Leadership on Energy Management), are revoked.

(c) Presidential Memorandum of May 24, 2011 (Federal Fleet Performance), is revoked as of October 1, 2015.

(d) Section 3(b)(vi) of Executive Order 13327 of February 4, 2004, is amended by striking “Executive Order 13148 of April 21, 2000” and inserting in lieu thereof “other Executive Orders”.

(e) Section 2(d) of Executive Order 13432 of May 14, 2007, is amended to read as follows: “‘greenhouse gases’ means carbon dioxide, methane, nitrous oxide, hydrofluorocarbons, perfluorocarbons, nitrogen triflouride, and sulfur hexafluoride;”.

(f) Section 5 of Executive Order 13653 of November 1, 2013, is amended by striking “Executive Order 13514” and inserting in lieu thereof “other Executive Orders”.

(g) Section 1 of Executive Order 13677 of September 23, 2014, is amended by striking “Executive Order 13514 of October 5, 2009 (Federal Leadership in Environmental, Energy, and Economic Performance), and Executive Order 13653 of November 1, 2013 (Preparing the United States for the Impacts of Climate Change),” and inserting in lieu thereof “Several Executive Orders have”.

Sec. 17. Limitations. (a) This order shall apply to an agency with respect to the activities, personnel, resources, and facilities of the agency that are located within the United States. The head of an agency may provide that this order shall apply in whole or in part with respect to the activities, personnel, resources, and facilities of the agency that are not located within the United States, if the head of the agency determines that such application is in the interest of the United States.

(b) The head of an agency shall manage activities, personnel, resources, and facilities of the agency that are not located within the United States with respect to which the head of the agency has not made a determination under subsection (a) of this section in a manner consistent with the policy set forth in section 1 of this order to the extent the head of the agency determines practicable.

Sec. 18. Exemption Authority. (a) The Director of National Intelligence may exempt an intelligence activity of the United States, and related personnel, resources, and facilities, from the provisions of this order other than this subsection to the extent the Director determines necessary to protect intelligence sources and methods from unauthorized disclosure.

(b) The head of an agency may exempt law enforcement activities of that agency, and related personnel, resources, and facilities, from the provisions of this order other than this subsection to the extent the head of an agency determines necessary to protect undercover operations from unauthorized disclosure.

(c) The head of an agency may exempt law enforcement, protective, emergency response, or military tactical vehicle fleets of that agency from the provisions of this order other than this subsection. Heads of agencies shall manage fleets to which this paragraph refers in a manner consistent with the policy set forth in section 1 of this order to the extent they determine practicable.

(d) The head of an agency may exempt particular agency activities and facilities from the provisions of this order other than this subsection where it is in the interest of national security. If the head of an agency issues an exemption under this section, the agency must notify the Chair of CEQ in writing within 30 days of issuance of the exemption under this subsection. To the maximum extent practicable, and without compromising national security, each agency shall strive to comply with the purposes, goals, and implementation steps in this order.

(e) The head of an agency may submit to the President, through the Chair of CEQ, a request for an exemption of an agency activity, and related personnel, resources, and facilities, from this order.

Sec. 19. Definitions. As used in this order:

(a) “absolute greenhouse gas emissions” means total greenhouse gas emissions without normalization for activity levels and includes any allowable consideration of sequestration;

(b) “agency” means an executive agency as defined in section 105 of title 5, United States Code, excluding the Government Accountability Office;

(c) “alternative energy” means energy generated from technologies and approaches that advance renewable heat sources, including biomass, solar thermal, geothermal, waste heat, and renewable combined heat and power processes; combined heat and power; small modular nuclear reactor technologies; fuel cell energy systems; and energy generation, where active capture and storage of carbon dioxide emissions associated with that energy generation is verified;

(d) “alternative fuel vehicle” means vehicles defined by section 301 of the Energy Policy Act of 1992, as amended (42 U.S.C. 13211), and otherwise includes electric vehicles, hybrid electric vehicles, plug-in hybrid electric vehicles, dedicated alternative fuel vehicles, dual fueled alternative fuel vehicles, qualified fuel cell motor vehicles, advanced lean burn technology motor vehicles, low greenhouse gas vehicles, compressed natural gas powered vehicles, self-propelled vehicles such as bicycles, and any other alternative fuel vehicles that are defined by statute;

(e) “clean energy” means renewable electric energy and alternative energy;

(f) “climate resilient design” means to design assets to prepare for, withstand, respond to, or quickly recover from disruptions due to severe weather events and climate change for the intended life of the asset;

(g) “construction and demolition materials and debris” means waste materials and debris generated during construction, renovation, demolition, or dismantling of all structures and buildings and associated infrastructure;

(h) “Contributing Agencies” are defined as executive agencies that are not subject to the Chief Financial Officers Act and include Federal Boards, Commissions, and Committees;

(i) “divert” or “diverting” means redirecting materials from disposal in landfills or incinerators to recycling or recovery, excluding diversion to waste-to-energy facilities;

(j) “environmentally preferable” means products or services that have a lesser or reduced effect on human health and the environment when compared with competing products or services that serve the same purpose. This comparison may consider raw materials acquisition, production, manufacturing, packaging, distribution, reuse, use, operation, maintenance, or disposal related to the product or service;

(k) “excluded vehicles and equipment” means any vehicle, vessel, aircraft, or non-road equipment owned or operated by an agency of the Federal Government that is used in combat support, combat service support, tactical or relief operations, or training for such operations or spaceflight vehicles (including associated ground-support equipment);

(l) “Federal facility” means any building or collection of buildings, grounds, or structures, as well as any fixture or part thereof, which is owned by the United States or any Federal agency or that is held by the United States or any Federal agency under a lease-acquisition agreement under which the United States or a Federal agency will receive fee simple title under the terms of such agreement without further negotiation;

(m) “greenhouse gases” means carbon dioxide, methane, nitrous oxide, hydrofluorocarbons, perfluorocarbons, nitrogen triflouride, and sulfur hexafluoride;

(n) “life-cycle cost-effective” means the life-cycle costs of a product, project, or measure are estimated to be equal to or less than the base case (i.e., current or standard practice or product);

(o) “net-zero energy building” means a building that is designed, constructed, or renovated and operated such that the actual annual source energy consumption is balanced by on-site renewable energy;

(p) “net-zero water building” means a building that is designed, constructed, or renovated and operated to greatly reduce total water consumption, use non-potable sources as much as possible, and recycle and reuse water in order to return the equivalent amount of water as was withdrawn from all sources, including municipal supply, without compromising groundwater and surface water quantity or quality;

(q) “net-zero waste building” means a building that is operated to reduce, reuse, recycle, compost, or recover solid waste streams (with the exception of hazardous and medical waste) thereby resulting in zero waste disposal;

(r) “passenger vehicle” means a sedan or station wagon designed primarily to transport people as defined in 102-34.35 of the Federal Management Regulation;

(s) “power usage effectiveness” means the ratio obtained by dividing the total amount of electricity and other power consumed in running a data center by the power consumed by the information and communications technology in the data center;

(t) “Principal Agencies” mean agencies subject to the Chief Financial Officers Act and agencies subject to the OMB Scorecard process under section 5(b) of this order;

(u) “renewable energy certificate” means the technology and environmental (non-energy) attributes that represent proof that 1 megawatt-hour (MWh) of electricity was generated from an eligible renewable energy resource, that can be sold separately from the underlying generic electricity with which they are associated, and that, for the purposes of section 3(d)(iii) and (iv) of this order, were produced by sources of renewable energy placed into service within 10 years prior to the start of the fiscal year;

(v) “renewable electric energy” means energy produced by solar, wind, biomass, landfill gas, ocean (including tidal, wave, current, and thermal), geothermal, geothermal heat pumps, microturbines, municipal solid waste, or new hydroelectric generation capacity achieved from increased efficiency or additions of new capacity at an existing hydroelectric project;

(w) “resilience” means the ability to anticipate, prepare for, and adapt to changing conditions and withstand, respond to, and recover rapidly from disruptions;

(x) “scope 1, 2, and 3” mean:

(i) scope 1: direct greenhouse gas emissions from sources that are owned or controlled by the agency;

(ii) scope 2: direct greenhouse gas emissions resulting from the generation of electricity, heat, or steam purchased by an agency;

(iii) scope 3: greenhouse gas emissions from sources not owned or directly controlled by an agency but related to agency activities such as vendor supply chains, delivery and transportation services, and employee travel and commuting;

(y) “United States” means the fifty States, the District of Columbia, the Commonwealth of Puerto Rico, Guam, American Samoa, the United States Virgin Islands, and the Northern Mariana Islands, and associated territorial waters and airspace;

(z) “water balance” means a comparison of the water supplied to a defined system to the water consumed by that system in order to identify the proportion of water consumed for specific end-uses and ensure potential water leaks in the system are addressed; and

(aa) “zero emission vehicle” means a vehicle that produces zero exhaust emissions of any criteria pollutant (or precursor pollutant) or greenhouse gas under any possible operational modes or conditions.

Sec. 20. General Provisions. (a) Nothing in this order shall be construed to impair or otherwise affect:

(i) the authority granted by law to an executive department, agency, or the head thereof; or

(ii) the functions of the Director of OMB relating to budgetary, administrative, or legislative proposals.

(b) This order shall be implemented in a manner consistent with applicable law and subject to the availability of appropriations.

(c) This order is not intended to, and does not, create any right or benefit, substantive or procedural, enforceable at law or in equity by any party against the United States, its departments, agencies, or entities, its officers, employees, or agents, or any other person.

THE WHITE HOUSE,

March 19, 2015.

[FR Doc. 2015-07016

Filed 3-24-15; 11:15 am]

Billing code 3295-F5